DEPARTMENT OF HEALTH AND HUMAN SERVICES

National Institutes of Health

Center for Scientific Review; Amended Notice of Meeting

Notice is hereby given of a change in the meeting of the Center for Scientific Review Special Emphasis Panel, Fellowships: Physiology and Pathobiology of the Vascular and Hematological Systems, March 27, 2020 10:00 a.m. to March 27, 2020, 2:00 p.m., The William F. Bolger Center, 9600 Newbridge Drive, Potomac, MD 20854, which was published in the Federal Register on March 04, 2020, 85 FR 12799.

The meeting location is being held at the National Institutes of Health, 6701 Rockledge Drive, Bethesda, MD 20892. The meeting date and time remains the same.

Dated: March 13, 2020.
Melanie J. Pantoja,
Program Analyst, Office of Federal Advisory Committee Policy.

[FR Doc. 2020-05638 Filed 3-17-20; 8:45 am]

BILLING CODE 4140-01-P